NEIGHBORHOOD REINVESTMENT CORPORATION

Finance, Budget & Program. Committee Meeting of the Board of Directors; Sunshine Act

TIME & DATE: 3 p.m., Thursday, September 20, 2012.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call to Order

II. Executive Session

III. Approval of Preliminary FY 2013 Budget

IV. Financial Report

V. DC Lease Update and Discussion of Associated Budget

VI. FY 12 Corporate Milestone Report and Dashboard

VII. National Foreclosure Mitigation Counseling

VIII. Program Updates

IX. Adjournment

Erica Hall,
Assistant Corporate Secretary.

[FR Doc. 2012-22537 Filed 9-10-12; 11:15 am]

BILLING CODE 7570-02-P